DEPARTMENT OF TRANSPORTATION

Surface Transportation Board

[Docket No. FD 35620]

Columbus & Chattahoochee Railroad, Inc.—Lease and Operation Exemption—Norfolk Southern Railway Company

Columbus & Chattahoochee Railroad, Inc. (CCR), a noncarrier, has filed a verified notice of exemption under 49 CFR 1150.31 to lease from Norfolk Southern Railway Company (NSR) and operate 25.50 miles of rail line consisting of two segments: (1) Between milepost S 292.8 near Girard, Ala., and milepost S 303.9 near Nuckols, Ala., a distance of 11.10 miles; and (2) between milepost NU 0 near Nuckols and milepost NU 14.4 near Mahrt, Ala., a distance of 14.40 miles (collectively, the line). This transaction is related to a concurrently filed petition for exemption in Genesee & Wyoming Inc.—Continuance in Control Exemption—Columbus & Chattahoochee Railroad, Inc., Docket No. FD 35621, in which Genesee & Wyoming Inc. (GWI), a noncarrier, seeks Board approval to continue in control of CCR upon CCR's becoming a Class III carrier.

As a result of this transaction, and pursuant to a lease agreement dated April 26, 2012, CCR will provide freight rail service over the line, connecting with and interchanging traffic with NSR at NSR's Columbus Yard in Columbus, Ga. The line will connect indirectly with Georgia Southwestern Railroad, Inc. (GSWR), a Class III carrier also controlled by GWI, at Columbus Yard. CCR states that there are no interchange commitments to NSR as part of this transaction.

CCR states that it plans to commence operations on July 1, 2012, more than 30 days after the filing of the notice of exemption.

CCR certifies that its projected annual revenues as a result of this transaction will not exceed those that would qualify it as a Class III rail carrier. Because CCR's projected annual revenues after the transaction will exceed $5 million, CCR certified to the Board on April 30, 2012, that it had complied with the requirements of 49 CFR 1150.32(e) by providing notice to employees and their labor unions on the affected 25.50 miles of rail line. Under 49 CFR 1150.32(e), this exemption cannot become effective until 60 days after the date notice was provided, which would be June 29, 2012.

If the verified notice contains false or misleading information, the exemption is void ab initio. Petitions to revoke the exemption under 49 U.S.C. 10502(d) may be filed at any time. The filing of a petition to revoke will not automatically stay the effectiveness of the exemption. Petitions for stay must be filed no later than June 22, 2012 (at least 7 days before the exemption becomes effective).

An original and 10 copies of all pleadings, referring to Docket No. FD 35620, must be filed with the Surface Transportation Board, 395 E Street SW., Washington, DC 20423-0001. In addition, a copy of each pleading must be served on Eric M. Hocky, Thorp Reed & Armstrong, LLP, One Commerce Square, 2005 Market Street, Suite 1000, Philadelphia, PA 19103.

Board decisions and notices are available on our Web site at www.stb.dot.gov.

Decided: May 8, 2012.
By the Board, Rachel D. Campbell, Director, Office of Proceedings.
Derrick A. Gardner,
Clearance Clerk.

[FR Doc. 2012-11411 Filed 5-10-12; 8:45 am]

BILLING CODE 4915-01-P